COMMISSION ON CIVIL RIGHTS

Notice of Public Meeting of the New York Advisory Committee

AGENCY: U.S. Commission on Civil Rights.

ACTION: Notice of meeting.

SUMMARY: Notice is hereby given, pursuant to the provisions of the rules and regulations of the U.S. Commission on Civil Rights (Commission) and the Federal Advisory Committee Act that the New York Advisory Committee (Committee) will hold meetings via WebEx on Friday, September 3, 2021; from 1:00-2:15 p.m. ET, and Friday, September 17, 2021; from 1:00-2:15 p.m. ET, for the purpose of debriefing testimony heard related to the Committee's project on potential racial discrimination in eviction policies and enforcement in New York.

DATES: The meetings will be held on Friday, September 3, 2021; from 1:00 p.m.-2:15 p.m. ET and Friday, September 17, 2021; from 1:00 p.m.-2:15 p.m. ET Access details for both meetings:

• To join by web conference please click the link below; password is USCCR: https://bit.ly/3mcmZtw.

• To join by phone only, dial: 1-800-360-9505; Access Code: 199 963 9326#.

FOR FURTHER INFORMATION CONTACT: Mallory Trachtenberg, DFO, at mtrachtenberg@usccr.gov or 202-809-9618.

SUPPLEMENTARY INFORMATION: Members of the public can listen to the discussion. This meeting is available to the public through the following toll-free call-in number. An open comment period will be provided to allow members of the public to make a statement as time allows. The conference operator will ask callers to identify themselves, the organizations they are affiliated with (if any), and an email address prior to placing callers into the conference call. Callers can expect to incur charges for calls they initiate over wireless lines, and the Commission will not refund any incurred charges. Callers will incur no charge for calls they initiate over land-line connections to the toll-free telephone number. Persons with hearing impairments may also follow the proceedings by first calling the Federal Relay Service at 1-800-877-8339 and providing the Service with the conference call number and conference ID number. To request additional accommodations, please email mtrachtenberg@usccr.gov at least 7 days prior to the meeting for which accommodations are requested.

Members of the public are also entitled to submit written comments; the comments must be received in the regional office within 30 days following the meeting. Written comments may be emailed to Mallory Trachtenberg at mtrachtenberg@usccr.gov in the Regional Programs Unit Office/Advisory Committee Management Unit. Persons who desire additional information may contact the Regional Programs Unit at 202-809-9618.

Records generated from this meeting may be inspected and reproduced at the Regional Programs Unit Office, as they become available, both before and after the meeting. Records of the meeting will be available at www.facadatase.gov under the Commission on Civil Rights, New York Advisory Committee. Persons interested in the work of this Committee are also directed to the Commission's website, www.usccr.gov; persons may also contact the Regional Programs Unit office at the above email or phone number.

Agenda

I. Welcome and Roll Call

II. Announcements and Updates

III. Approval of Minutes

IV. Discussion: Committee's Project on Eviction Policy and Enforcement in New York

V. Public Comment

VI. Review Next Steps

VII. Adjournment

Dated: August 20, 2021.
David Mussatt,
Supervisory Chief, Regional Programs Unit.

[FR Doc. 2021-18353 Filed 8-25-21; 8:45 am]

BILLING CODE P